DEPARTMENT OF AGRICULTURE

Food Safety and Inspection Service

[Docket No. 02-017N]

The National Advisory Committee on Meat and Poultry Inspection; Nominations for Membership

AGENCY: Food Safety and Inspection Service, USDA.

ACTION: Notice.

SUMMARY: The Department of Agriculture (USDA) is soliciting nominations for membership on the National Advisory Committee on Meat and Poultry Inspection. The full Committee consists of 16-18 members, and each person selected is expected to serve a 2-year term.

DATES: The names of the nominees and their typed curricula vitae or resumes must be postmarked no later than September 26, 2002. Applications are available on-line at: http://www/fsis.usda.gov/OPPDE/nacmpi/.

ADDRESSES: Nominating materials should be submitted to Mr. William J. Hudnall, Acting Administrator, Food Safety and Inspection Service, USDA, Room 615—Cotton Annex Building, 300 12th Street, SW., Washington, DC 20250-3700.

FOR FURTHER INFORMATION CONTACT: Ms. Sonya L. West, Meat and Poultry Advisory Committee Staff, FSIS, Room 615—Annex Building, 300 12th Street SW., Washington, DC 20250-3700; telephone (202) 205-0256; FAX (202) 205-0157; e-mail: sonya.west@usda.gov.

SUPPLEMENTARY INFORMATION: USDA again is seeking nominees for membership on the National Advisory Committee on Meat and Poultry Inspection. The Committee provides advice and recommendations to the Secretary on the meat and poultry inspection programs, pursuant to sections 7(c), 24, 301(a)(3), 301(a)(4), and 301(c) of the Federal Meat Inspection Act (21 U.S.C. 607(c), 624, 645, 661(a)(3), 661(a)(4), and 661(c)) and to sections 5(a)(3), 5(a)(4), 5(c), 8(b), and 11(e) of the Poultry Products Inspection Act (21 U.S.C. 454(a)(3), 454(a)(4), 454(c), 457(b), and 460(e)). Nominations for membership are being sought from persons representing producers; processors; exporters and importers of meat and poultry products; academia; Federal and State government officials; and consumers.

Appointments to the Committee will be made by the Secretary. To ensure that recommendations of the Committee take into account the needs of the diverse groups served by the Department, membership should include, to the extent practicable, persons with demonstrated ability to represent minorities, women, and persons with disabilities. It is anticipated that the Committee will meet at least twice annually.

Additional Public Notification

Public awareness of all segments of rulemaking and policy development is important. Consequently, in an effort to better ensure that minorities, women, and persons with disabilities are aware of this notice, FSIS will announce it and make copies of this Federal Register publication available through the FSIS Constituent Update. FSIS provides a weekly Constituent Update, which is communicated via Listserv, a free e-mail subscription service. In addition, the update is available on-line through the FSIS Web page located at http://www.fsis.usda.gov. The update is used to provide information regarding FSIS policies, procedures, regulations, Federal Register notices, FSIS public meetings, recalls, and any other types of information that could affect or would be of interest to our constituents/stakeholders. The constituent Listserv consists of industry, trade, and farm groups, consumer interest groups, allied health professionals, scientific professionals, and other individuals that have requested to be included. Through the Listserv and Web page, FSIS is able to provide information to a much broader, more diverse audience.

For more information contact the Congressional and Public Affairs Office, at (202) 720-9113. To be added to the free e-mail subscription service (Listserv) go to the “Constituent Update” page on the FSIS Web site at http://www.fsis.usda.gov/oa/update/update.htm. Click on the “Subscribe to the Constituent Update Listserv” link, then fill out and submit the form.

Done at Washington, DC on: August 7, 2002.
William J. Hudnall,
Acting Administrator.

[FR Doc. 02-20331 Filed 8-9-02; 8:45 am]

BILLING CODE 3410-DM-P